LIBRARY OF CONGRESS

Copyright Office

37 CFR Part 201

[Docket No. 2018-8]

Noncommercial Use of Pre-1972 Sound Recordings That Are Not Being Commercially Exploited: Extension of Comment Period

AGENCY: U.S. Copyright Office, Library of Congress.

ACTION: Notice of inquiry; extension of comment period.

SUMMARY: The Copyright Office is extending the deadline for the submission of written comments in response to its October 16, 2018 notice of inquiry regarding the Classics Protection and Access Act, title II of the recently enacted Orrin G. Hatch-Bob Goodlatte Music Modernization Act.

DATES: The initial comment period for the notice of inquiry, published on October 16, 2018, is extended by an additional ten days. Initial comments must be made in writing and must be received in the U.S. Copyright Office no later than 11:59 p.m. Eastern Time on November 26, 2018. Written reply comments must be received no later than 11:59 p.m. Eastern Time on December 11, 2018.

ADDRESSES: For reasons of government efficiency, the Copyright Office is using the regulations.gov system for the submission and posting of public comments in this proceeding. All comments are therefore to be submitted electronically through regulations.gov. Specific instructions for submitting comments are available on the Copyright Office's website at https://www.copyright.gov/rulemaking/pre1972-soundrecordings-noncommercial/. If electronic submission of comments is not feasible due to lack of access to a computer and/or the internet, please contact the Office using the contact information below for special instructions.

FOR FURTHER INFORMATION CONTACT: Regan A. Smith, General Counsel and Associate Register of Copyrights, by email at regans@copyright.gov, Anna Chauvet, Assistant General Counsel, by email at achau@copyright.gov, or Jason E. Sloan, Assistant General Counsel, by email at jslo@copyright.gov. Each can be contacted by telephone by calling (202) 707-8350.

SUPPLEMENTARY INFORMATION: On October 16, 2018, the U.S. Copyright Office issued a notice of inquiry (“NOI”) regarding the Classics Protection and Access Act, title II of the recently enacted Orrin G. Hatch-Bob Goodlatte Music Modernization Act.¹ In connection with the establishment of federal remedies for unauthorized uses of sound recordings fixed before February 15, 1972 (“Pre-1972 Sound Recordings”), Congress established an exception for certain noncommercial uses of Pre-1972 Sound Recordings that are not being commercially exploited. To qualify for this exemption, a user must file a notice of noncommercial use after conducting a good faith, reasonable search to determine whether the Pre-1972 Sound Recording is being commercially exploited, and the rights owner of the sound recording must not object to the use within 90 days. To promulgate the regulations required by the new statute, the Office solicited comments regarding specific steps that a user should take to demonstrate she has made a good faith, reasonable search, as well as the filing requirements for the user to submit a notice of noncommercial use and for a rights owner to submit a notice objecting to such use.²

¹ 83 FR 52176 (Oct. 16, 2018).

² Id. at 52177-78.

To ensure that members of the public have sufficient time to respond, and to ensure that the Office has the benefit of a complete record, the Office is extending the deadline for the submission of initial written comments to 11:59 p.m. Eastern Time on November 26, 2018. Written reply comments must be received no later than 11:59 p.m. Eastern Time on December 11, 2018. So that the Office is able to meet the statutory deadlines described in the NOI, no further extensions of time will be granted in this rulemaking.

Dated: November 8, 2018.
Catherine Rowland,
Associate Register of Copyrights and Director of Public Information and Education.

[FR Doc. 2018-24848 Filed 11-14-18; 8:45 am]

BILLING CODE 1410-30-P